DEPARTMENT OF HEALTH AND HUMAN SERVICES

Administration for Community Living

Agency Information Collection Activities; Proposed Collection; Comment Request; The National Adult Maltreatment Reporting System; OMB #0985-0054

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the Proposed Extension without Change and solicits comments on the information collection requirements related to the National Maltreatment Reporting System (NAMRS).

DATES: Comments on the collection of information must be submitted electronically by 11:59 p.m. (EST) or postmarked by January 13, 2020.

ADDRESSES: Submit electronic comments on the collection of information to Stephanie Whittier Eliason, Administration for Community Living, Washington, DC 20201, at Stephanie.WhittierEliason@acl.hhs.gov.

FOR FURTHER INFORMATION CONTACT: Stephanie Whittier Eliason, Administration for Community Living, Washington, DC 20201, at 202.795.7467 and Stephanie.WhittierEliason@acl.hhs.gov.

SUPPLEMENTARY INFORMATION: Under the PRA (44 U.S.C. 3501-3520), Federal agencies must obtain approval from the Office of Management and Budget (OMB) for each collection of information they conduct or sponsor. “Collection of information” includes agency requests or requirements that members of the public submit reports, keep records, or provide information to a third party the PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

This data collection effort is in response to the Elder Justice Act of 2009, which amended title XX of the Social Security Act [42.U.S.C. 13976 et seq.]. These provisions require that the Secretary of HHS “collects and disseminates data annually relating to the abuse, exploitation, and neglect of elders in coordination with the Department of Justice” [Sec. 2041(a)(1)(B)], and “conducts research related to the provision of adult protective services” [Sec. 2041(a)(1)(D)]. Furthermore, the Elder Justice Coordinating Council (EJCC) included as its third recommendation for increasing federal involvement in addressing elder abuse, neglect, and exploitation: Develop a national adult protective services (APS) system based upon standardized data collection and a core set of service provision standards and best practices. NAMRS is a voluntary system that since FFY2016 has been collecting on an annual basis both summary and de-identified case-level data on APS investigations submitted by states. NAMRS consists of three components:

(1) ACL proposes to collect descriptive data on state agency and practices from all states through the “Agency Component,” and

(2) Case-level, non-identifiable data on persons who receive an investigation by APS in response to an allegation of abuse, neglect, or exploitation through “Case Component”

(3) For states that are unable to submit a case-level file through the “Case Component,” a “Key Indicators Component” will be available for them to submit data on a smaller set of core items.

ACL provides technical assistance to states to assist in the preparation of their data submissions. Respondents are state APS agencies and APS agencies in the District of Columbia, Puerto Rico, Guam, Northern Mariana Islands, Virgin Islands, and American Samoa (states, hereafter). No personally identifiable information is collected.

The proposed data collection tools may be found on the ACL website for review at https://www.acl.gov/about-acl/public-input.

Estimated Program Burden

ACL estimates the burden associated with this collection of information as follows: 56 states will respond every year. It will take approximately 7 hours to respond to the Agency Component, 32 hours to respond to the Key Indicator Component, and 125 hours to respond and jointly complete the Case Component and the development of NAMRS for a total of approximately 5,436 hours. The estimates are based on the amount of time States have previously reported in completing the data collection instruments; continued increase in the number of states reporting on Case Component and Key Indicator Component data; and assumption of modest incremental efficiencies by States in reporting data to NAMRS every year, including, most significantly, minimal need to recode to extract data after the initial year.

Respondent/data collection activity | Number of respondents | Responses per respondent | Hours per response | Annual burden hours
Agency Component | 56 | 1 | 4 | 224
Key Indicators Component | 17 | 1 | 20 | 340
Case Component | 36 | 1 | 100 | 3,600
Total |  |  |  | 4,164

Dated: November 1, 2019.
Mary Lazare,
Principal Deputy Administrator.

[FR Doc. 2019-24521 Filed 11-8-19; 8:45 am]

BILLING CODE 4154-01-P